FEDERAL COMMUNICATIONS COMMISSION

47 CFR Part 73

[DA 02-1548; MM Docket No. 01-260; RM-10270]

Radio Broadcasting Services; Pawhuska, OK

AGENCY: Federal Communications Commission.

ACTION: Final rule.

SUMMARY: This document allots Channel 233A to Pawhuska, Oklahoma, as that community's second local FM transmission service, in response to a petition for rule making filed by Maurice Salsa. See 66 FR 52733, October 17, 2001. The allotment of Channel 233A at Pawhuska, Oklahoma, requires a site restriction 11.7 kilometers north of the community, utilizing in this instance, reference coordinates 36-46-16 NL and 96-21-39 WL. With this action, this docketed proceeding is terminated.

DATES: Effective August 19, 2002. A filing window for Channel 233A at Pawhuska, Oklahoma, will not be opened at this time. Instead, the issue of opening the allotment for auction will be addressed by the Commission in a subsequent Order.

FOR FURTHER INFORMATION CONTACT: Nancy Joyner, Media Bureau, (202) 418-2180. Questions related to the application filing process for Channel 233A at Pawhuska, Oklahoma, should be addressed to the Audio Division, (202) 418-2700.

SUPPLEMENTARY INFORMATION: This is a synopsis of the Commission's Report and Order, MM Docket No. 01-260, adopted June 26, 2002, and released July 5, 2002. The full text of this Commission decision is available for inspection and copying during normal business hours in the FCC's Reference Center (Room CY-A257), 445 Twelfth Street, SW., Washington, DC. The complete text of this decision may also be purchased from the Commission's copy contractor, Qualtex International, Portals II, 445 12th Street, SW., Room CY-B402, Washington, DC 20554, telephone (202) 863-2893.

List of Subjects in 47 CFR Part 73

Radio broadcasting.

Part 73 of title 47 of the Code of Federal Regulations is amended as follows:

PART 73—RADIO BROADCAST SERVICES

1. The authority citation for part 73 continues to read as follows:

Authority: 47 U.S.C. 154, 303, 334 and 336.

§ 73.202 [Amended]

2. Section 73.202(b), the Table of FM Allotments under Oklahoma, is amended by adding Channel 233A at Pawhuska.

Federal Communications Commission.
John A. Karousos,
Assistant Chief, Audio Division, Media Bureau.

[FR Doc. 02-17834 Filed 7-15-02; 8:45 am]

BILLING CODE 6712-01-U